DEPARTMENT OF VETERANS AFFAIRS

National Research Advisory Council; Notice of Meeting; Cancellation

The Department of Veterans Affairs (VA) gives notice under the Federal Advisory Committee Act that the meeting of the National Research Advisory Council previously scheduled to be held on Wednesday, December 5, 2018, at 1100 First Street NE, Room 104, Washington, DC 20002, has been cancelled.

For more information, please contact Ms. Rashelle Robinson, Designated Federal Officer at (202) 443-5668, or via email at Rashelle.Robinson@va.gov.

Dated: December 4, 2018.
LaTonya L. Small,
Federal Advisory Committee Management Officer.

[FR Doc. 2018-26714 Filed 12-10-18; 8:45 am]

BILLING CODE 8320-01-P